DEPARTMENT OF STATE

[Public Notice 4667]

Foreign Terrorists and Terrorist Organizations; Designation: Ansar al-Islam

In the Matter of the Designation of Ansar al-Islam, also known as Devotees of Islam, also known as Followers of Islam in Kurdistan, also known as Helpers of Islam, also known as Jund al-Islam, also known as Kurdistan Supporters of Islam, also known as Kurdish Taliban, also known as Partisans of Islam, also known as Soldiers of Islam, also known as Soldiers of God, also known as Supporters of Islam in Kurdistan, also known as Ansar al-Sunna, also known as Ansar al-Sunna Army, also known as Jaish Ansar al-Sunna, as a Foreign Terrorist Organization pursuant to Section 219 of the Immigration and Nationality Act.

Based upon a review of the Administrative Record assembled in this matter, and in consultation with the Attorney General and the Secretary of the Treasury, the Secretary of State has concluded that there is a sufficient factual basis to find that the relevant circumstances described in section 219 of the Immigration and Nationality Act, as amended (8 U.S.C. 1189, hereinafter “INA”), exist with respect to Ansar al-Islam.

Therefore, effective March 22, 2004, the Secretary of State hereby designates that organization as a foreign terrorist organization pursuant to section 219(a) of the INA.

Dated: March 15, 2004.
Cofer Black,
Coordinator for Counterterrorism, Department of State.

[FR Doc. 04-6334 Filed 3-19-04; 5:00 pm]

BILLING CODE 4710-10-P